DEPARTMENT OF TRANSPORTATION

Maritime Administration

Marine Transportation System National Advisory Council

AGENCY: Maritime Administration, DOT.

ACTION: National Advisory Council public meeting.

SUMMARY: The Maritime Administration announces that the Marine Transportation System National Advisory Council (MTSNAC) will hold a meeting to discuss MTS needs and other relevant issues, regional MTS outreach initiatives, Council team assignments, and other issues. A public comment period is scheduled for 8:30 a.m. to 9 a.m. on Tuesday, May 4, 2004. To provide time for as many people to speak as possible, speaking time for each individual will be limited to three minutes. Members of the public who would like to speak are asked to contact Raymond Barberesi by April 27, 2004. Commenters will be placed on the agenda in the order in which notifications are received. If time allows, additional comments will be permitted. Copies of oral comments must be submitted in writing at the meeting. Additional written comments are welcome and must be filed by May 11, 2004.

DATES: The meeting will be held on Monday, May 3, 2004, from 1 p.m. to 5 p.m. and Tuesday, May 4, 2004, from 8:30 a.m. to 12 p.m.

ADDRESSES: The meeting will be held in the Radisson Hotel and Suites, 160 E. Huron Street, Chicago, IL 60611. The hotel's phone number is (312) 787-2900.

FOR FURTHER INFORMATION CONTACT: Raymond Barberesi, (202) 366-4357; Maritime Administration, MAR-830, Room 7201, 400 Seventh St., SW., Washington, DC 20590; Raymond.Barberesi@marad.dot.gov.

(Authority: 49 CFR 1.66.)
Dated: April 13, 2004.
Joel C. Richard,
Secretary, Maritime Administration.

[FR Doc. 04-8663 Filed 4-15-04; 8:45 am]

BILLING CODE 4910-81-P